DEPARTMENT OF COMMERCE

International Trade Administration

[C-570-054]

Certain Aluminum Foil From the People's Republic of China: Amended Final Results of Countervailing Duty Administrative; 2022

AGENCY: Enforcement and Compliance, International Trade Administration, Department of Commerce.

SUMMARY: The U.S. Department of Commerce (Commerce) is amending the final results of the countervailing duty administrative review of certain aluminum foil (aluminum foil) from the People's Republic of China (China) to correct a ministerial error. The period of review (POR) is January 1, 2022, through December 31, 2022.

DATES: Applicable December 17, 2024.

FOR FURTHER INFORMATION CONTACT: Natasia Harrison or Harrison Tanchuck, AD/CVD Operations, Office VI, Enforcement and Compliance, International Trade Administration, U.S. Department of Commerce, 1401 Constitution Avenue NW, Washington, DC 20230; telephone: (202) 482-1240 or (202) 482-7421, respectively.

SUPPLEMENTARY INFORMATION:

Background

In accordance with sections 751(a)(1) of the Tariff Act of 1930, as amended (the Act), and 19 CFR 351.221(b)(5), on November 12, 2024, Commerce published its final results in the countervailing duty administrative review of aluminum foil from China.¹ On November 13, 2024, the Aluminum Association Trade Enforcement Working Group and its individual members (collectively, the petitioners) timely alleged that Commerce made a ministerial error in the Final Results.² No party submitted rebuttal comments.

¹ See Certain Aluminum Foil from the People's Republic of China: Final Results of Countervailing Duty Administrative; 2022, 89 FR 88957 (November 12, 2024) (Final Results), and accompanying Issues and Decision Memorandum (IDM).

² See Petitioners' Letter, “Ministerial Error Allegation,” dated November 13, 2024.

Scope of the Order ³

³ See Certain Aluminum Foil from the People's Republic of China: Amended Final Affirmative Countervailing Duty Determination and Countervailing Duty Order, 83 FR 17360 (April 19, 2018); see also Certain Aluminum Foil from the People's Republic of China: Notice of Court Decision Not in Harmony With the Amended Final Determination in the Countervailing Duty Investigation, and Notice of Amended Final Determination and Amended Countervailing Duty Order, 85 FR 47730 (August 6, 2020) (collectively, Order).

The product covered by the scope of the Order is aluminum foil from China. A full description of the scope of the Order is contained in the Final Results IDM.

Ministerial Errors

Section 751(h) of the Act, and 19 CFR 351.224(f) define a “ministerial error” as an error “in addition, subtraction, or other arithmetic function, clerical error resulting from inaccurate copying, duplication, or the like, and any similar type of unintentional error which the Secretary considers ministerial.” Commerce finds that the purported error alleged by the petitioners constitutes a ministerial error within the meaning of 19 CFR 351.224(f).⁴ Specifically, we committed a ministerial error with regard to the calculation of mandatory respondent Jiangsu Zhongji Lamination Materials Co., (HK) Limited's (Zhongji HK's) input supplier company sales denominators, and consequently, the subsidy rate calculations performed in connection with Zhongji HK's affiliated input supplier company sales denominators. For a complete discussion of this alleged error, see the Ministerial Error Analysis Memorandum.

⁴ See Memorandum, “Analysis of Ministerial Error Allegations,” dated concurrently with this notice (Ministerial Error Analysis Memorandum).

In accordance with section 751(h) of the Act and 19 CFR 351.224(e), we are amending the Final Results.⁵ Specifically, we are amending the net subsidy rate for Zhongji HK. The revised net subsidy rate is provided in the table below. As a result of amending the net subsidy rate for Zhongji HK, we are also amending the rate for the non-selected companies, which is the average of the average of the rates calculated for two mandatory respondents, as provided in the table below.

⁵ See Final Results, 89 FR at 88958.

Amended Final Results of Review

As a result of correcting the ministerial errors described above, Commerce determines the following net countervailable subsidy rates for the period January 1, 2022, through December 31, 2022:

Company | Subsidy rate (percent ad valorem)
Hangzhou Five Star Aluminium Co., Ltd.⁶ | ⁷ 29.90
Jiangsu Zhongji Lamination Materials Co., (HK) Limited ⁸ | ⁹ 25.24
Non-Selected Companies Under Review ¹⁰ | ¹¹ 29.13

Disclosure

⁶ Commerce finds the following companies to be to be cross-owned with Five Star: Jiangsu Dingsheng New Materials Joint-Stock Co., Ltd. (Jiangsu Dingsheng), Dingsheng Aluminum Industries (Hong Kong) Trading Co., Ltd. (Dingsheng HK), Hangzhou Dingsheng Import & Export Co., Ltd. (Dingsheng IE), Hangzhou Teemful Aluminium Co., Ltd. (Teemful), Inner Mongolia Liansheng New Energy Material Co., Ltd. or Inner Mongolia Liansheng New Energy Material Joint-Stock Co., Ltd. (Liansheng), Inner Mongolia Xinxing New Energy Material Co., Ltd. or Inner Mongolia Xinxing New Material Co., Ltd. (Xinxing), Hangzhou Dingsheng Industrial Group Co., Ltd. (Dingsheng Group), Hangzhou Dingcheng Aluminium Co., Ltd. (Dingcheng); Luoyang Longding Aluminum Co., Ltd. (Longding); Walson (HK) Trading Co., Limited (Walson HK); Dingheng New Materials Co., Ltd. (Dingheng) and Thai Ding Li New Materials Co., Ltd. (Ding Li), (collectively, Dingsheng Respondents). Walson HK, Dingheng and Ding Li were listed separately in Initiation of Antidumping and Countervailing Duty Administrative Reviews, 88 FR 38021 (June 12, 2023) (Initiation Notice). See Dingsheng Respondents' Letter, “Hangzhou Five Star Affiliation Response,” dated August 25, 2023 (Dingsheng Respondents AQR) at Exhibit A.1.

⁷ Unchanged from Final Results.

⁸ As discussed in the Preliminary Results, Commerce finds the following companies to be to be cross-owned with Zhongji HK: Jiangsu Zhongji Lamination Materials Co., Ltd. (Zhongji) (FKA Jiangsu Zhongji Lamination Materials Stock Co., Ltd.); Jiangsu Huafeng Aluminium Industry Co., Ltd. (Jiangsu Huafeng); Shantou Wanshun New Material Group Co., Ltd. (Shantou Wanshun) (FKA Shantou Wanshun Package Material Stock Co., Ltd.); Anhui Zhongji Battery Foil Science & Technology Co., Ltd. (Anhui Zhongji) (FKA Anhui Maximum Aluminium Industries Company Limited); and Sichuan Wanshun Zhongji Aluminium Industry Co., Ltd. (Sichuan Wanshun). Anhui Zhongji, Anhui Maximum Aluminium Industries Company Limited, Jiangsu Huafeng, Zhongji, and Shantou Wanshun Package Material Stock Co., Ltd. were listed separately in the Initiation Notice.

⁹ This net countervailable ad valorem subsidy rate reflects an entered value adjustment (EVA). See Final Results IDM at Comment 3.

¹⁰ See Appendix for a list of the non-selected companies under review.

¹¹ The non-selected company rate reflects Five Star's ad valorem net countervailable subsidy rate and Zhongji HK's amended ad valorem net countervailable subsidy rate without the EVA, which is 28.35 percent. See Final Results IDM at Comment 3; see also Memorandum, “Amended Final Results Calculation of Subsidy Rate for Non-Selected Companies Under Review,” dated concurrently with this notice.

Commerce intends to disclose the calculations performed for these amended final results within five days after the date of publication of this notice in the Federal Register in accordance with 19 CFR 351.224(b).

Assessment Rates

In accordance with section 751(a)(1) of the Act and 19 CFR 351.212(b)(2), Commerce shall determine, and U.S. Customs and Border Protections (CBP) shall assess, countervailing duties on all appropriate entries of subject merchandise in accordance with the amended final results of this review. Commerce intends to issue assessment instructions to CBP no earlier than 35 days after the date of publication of these amended final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, Commerce also intends to instruct CBP to collect cash deposits of estimated countervailing duties in the amounts shown for the companies subject to this review, effective November 12, 2024, the date of publication of the Final Results in the Federal Register. For all non-selected companies, CBP will continue to collect cash deposits of estimated countervailing duties at the most recent company-specific or all-others rate applicable to the company, as appropriate. These cash deposits, when imposed, shall remain in effect until further notice.

Administrative Protective Order

This notice also serves as a final reminder to parties subject to an administrative protective order (APO) of their responsibility concerning the disposition of proprietary information disclosed under APO in accordance with 19 CFR 351.305(a)(3). Timely written notification of the return or destruction of APO materials or conversion to judicial protective order, is hereby requested. Failure to comply with the regulations and terms of an APO is a sanctionable violation.

Notification to Interested Parties

We are issuing and publishing these amended final results of the review in accordance with sections 751(h) and 777(i)(1) of the Act, and 19 CFR 351.224(e).

Dated: December 10, 2024.
Abdelali Elouaradia,
Deputy Assistant Secretary for Enforcement and Compliance.

Appendix

Non-Selected Companies Under Review

1. Alcha International Holdings Limited

2. Baotou Alcha Aluminum Co., Ltd.

3. Gränges Aluminum (Shanghai) Co., Ltd.

4. Guangxi Baise Xinghe Aluminum Industry Co., Ltd.

5. Hunan Suntown Marketing Limited

6. Jiangyin Dolphin Pack Ltd. Co.

7. Luoyang Longding Aluminium Industries Co., Ltd.

8. Shandong Yuanrui Metal Material Co., Ltd.

9. Shanghai Huafon Aluminium Corporation

10. Shanghai Shenhuo Aluminium Foil Co., Ltd.

11. Shanghai Shenyan Packaging Materials Co., Ltd.

12. SNTO International Trade Limited

13. Suntown Technology Group Corporation Limited

14. Xiamen Xiashun Aluminium Foil Co. Ltd.

15. Yangtai Jintai International Trade Co., Ltd.

16. Yantai Donghai Aluminum Co., Ltd.

17. Yinbang Clad Material Co., Ltd.

18. Zhejiang Zhongjin Aluminum Industry Co., Ltd.

[FR Doc. 2024-29600 Filed 12-16-24; 8:45 am]

BILLING CODE 3510-DS-P